DEPARTMENT OF DEFENSE

Office of the Secretary

Department of Defense Wage Committee (DoDWC); Notice of Federal Advisory Committee Meetings

AGENCY: Under Secretary of Defense for Personnel and Readiness (USD(P&R)), Department of Defense (DoD).

ACTION: Notice of closed Federal Advisory Committee meetings.

SUMMARY: The DoD is publishing this notice to announce that the following Federal Advisory Committee meetings of the DoDWC will take place.

DATES: Tuesday, April 16, 2024, from 10 a.m. to 1 p.m. and will be closed to the public. Tuesday, April 30, 2024, from 10 a.m. to 11:30 a.m. and will be closed to the public; Tuesday, May 14, 2024, from 10 a.m. to 1 p.m. and will be closed to the public; Tuesday, May 28, 2024, from 10 a.m. to 10:30 a.m. and will be closed to the public; Tuesday, June 11, 2024, from 10 a.m. to 11:30 a.m. and will be closed to the public.

ADDRESSES: The closed meetings will be held by Microsoft Teams.

FOR FURTHER INFORMATION CONTACT: Mr. Karl Fendt, (571) 372-1618 (voice), karl.h.fendt.civ@mail.mil. (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the Designated Federal Officer (DFO) and the DoD, the DoDWC was unable to provide public notification required by 41 CFR 102-3.150(a) concerning its April 16, 2024 meeting. Accordingly, the Advisory Committee Management Officer for the DoD, pursuant to 41 CFR 102-3.150(b), waives the 15-calendar day notification requirement.

Due to circumstances beyond the control of the DFO and the DoD, the DoDWC was unable to provide public notification required by 41 CFR 102-3.150(a) concerning its April 30, 2024 meeting. Accordingly, the Advisory Committee Management Officer for the DoD, pursuant to 41 CFR 102-3.150(b), waives the 15-calendar day notification requirement.

These meetings are being held under the provisions of chapter 10 of title 5, United States Code (U.S.C.) (commonly known as the “Federal Advisory Committee Act” or “FACA”), 5 U.S.C. 552b(c) (commonly known as the “Government in the Sunshine Act”), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agendas

April 16, 2024

Opening Remarks by Chair, Mr. Eric Clayton, and DFO, Mr. Karl Fendt.

Reviewing survey results and/or survey specifications for the following Nonappropriated Fund areas:

1. Any items needing further clarification or action from the previous meeting.

2. Wage Schedule (Full Scale) for the Onslow, North Carolina wage area (AC-097).

3. Wage Schedule (Full Scale) for the Shelby, Tennessee wage area (AC-098).

4. Wage Schedule (Full Scale) for the Christian, Kentucky/Montgomery, Tennessee wage area (AC-099).

5. Wage Schedule (Full Scale) for the Charleston, South Carolina wage area (AC-120).

6. Wage Schedule (Full Scale) for the San Juan-Guaynabo, Puerto Rico wage area (AC-155).

7. Wage Schedule (Wage Change) for the Sacramento, California wage area (AC-002).

8. Wage Schedule (Wage Change) for the San Joaquin, California wage area (AC-008).

9. Wage Schedule (Wage Change) for the Bernalillo, New Mexico wage area (AC-019).

10. Wage Schedule (Wage Change) for the Dona Ana, New Mexico wage area (AC-021).

11. Wage Schedule (Wage Change) for the El Paso, Texas wage area (AC-023).

12. Survey Specifications for the Frederick, Maryland wage area (AC-088).

13. Survey Specifications for the Washington, District of Columbia wage area (AC-124).

14. Survey Specifications for the Alexandria-Arlington-Fairfax, Virginia wage area (AC-125).

15. Survey Specifications for the Prince William, Virginia wage area (AC-126).

16. Survey Specifications for the Prince George's-Montgomery, Maryland wage area (AC-127).

17. Survey Specifications for the Charles-St. Mary's, Maryland wage area (AC-128).

18. Survey Specifications for the Anne Arundel, Maryland wage area (AC-147).

Reviewing survey results and/or survey specifications for the following Appropriated Fund areas:

19. Wage Schedule (Full Scale) for the Salinas-Monterey, California wage area (AC-015).

20. Wage Schedule (Full Scale) for the Southern Colorado wage area (AC-023).

21. Wage Schedule (Full Scale) for the Lexington, Kentucky wage area (AC-058).

22. Wage Schedule (Full Scale) for the Northern Mississippi wage area (AC-077).

23. Wage Schedule (Full Scale) for the New York, New York wage area (AC-094).

24. Wage Schedule (Full Scale) for the Rochester, New York wage area (AC-096).

25. Wage Schedule (Full Scale) for the Dayton, Ohio wage area (AC-107).

26. Wage Schedule (Full Scale) for the Memphis, Tennessee wage area (AC-124).

27. Wage Schedule (Full Scale) for the Nashville, Tennessee wage area (AC-125).

28. Wage Schedule (Full Scale) for the Wyoming wage area (AC-150).

29. Wage Schedule (Wage Change) for the Fresno, California wage area (AC-012).

30. Wage Schedule (Wage Change) for the Sacramento, California wage area (AC-014).

31. Wage Schedule (Wage Change) for the Stockton, California wage area (AC-020).

32. Wage Schedule (Wage Change) for the Denver, Colorado wage area (AC-022).

33. Wage Schedule (Wage Change) for the Miami, Florida wage area (AC-031).

34. Wage Schedule (Wage Change) for the Louisville, Kentucky wage area (AC-059).

35. Wage Schedule (Wage Change) for the Jackson, Mississippi wage area (AC-078).

36. Wage Schedule (Wage Change) for the Meridian, Mississippi wage area (AC-079).

37. Wage Schedule (Wage Change) for the Cincinnati, Ohio wage area (AC-104).

38. Wage Schedule (Wage Change) for the Narragansett Bay, Rhode Island wage area (AC-118).

39. Wage Schedule (Wage Change) for the Eastern Tennessee wage area (AC-123).

40. Survey Specifications for the Alaska wage area (AC-007).

41. Survey Specifications for the Hawaii wage area (AC-044).

42. Survey Specifications for the Central & Western Massachusetts wage area (AC-069).

43. Survey Specifications for the Southwestern Wisconsin wage area (AC-149).

44. Survey Specifications for the Central and Northern Maine wage area (AC-064).

45. Survey Specifications for the Montana wage area (AC-083).

46. Survey Specifications for the Asheville, North Carolina wage area (AC-098).

47. Survey Specifications for the Southwestern Oregon wage area (AC-113).

48. Survey Specifications for the Charleston, South Carolina wage area (AC-119).

49. Survey Specifications for the Austin, Texas wage area (AC-129).

50. Survey Specifications for the Corpus Christi, Texas wage area (AC-130).

51. Special Pay—Northern Mississippi Special Rates.

52. Special Pay—Fresno, California Special Rates.

53. Special Pay—Louisville, Kentucky Special Rates.

54. Special Pay—Stockton, California Special Rates.

55. Special Pay—Narragansett Bay, Rhode Island Special Rates.

56. Special Pay—Southeast Power Rate.

57. Any items needing further clarification from this agenda may be discussed during future scheduled meetings.

Closing Remarks by Chair, Mr. Eric Clayton.

April 30, 2024

Opening Remarks by Chair, Mr. Eric Clayton, and DFO, Mr. Karl Fendt.

Reviewing survey results and/or survey specifications for the following Nonappropriated Fund areas:

1. Any items needing further clarification or action from the previous meeting.

2. Wage Schedule (Full Scale) for the Oklahoma, Oklahoma wage area (AC-052).

3. Wage Schedule (Full Scale) for the Harrison, Mississippi wage area (AC-070).

4. Wage Schedule (Full Scale) for the Hardin-Jefferson, Kentucky wage area (AC-096).

5. Wage Schedule (Full Scale) for the Wayne, North Carolina wage area (AC-107).

6. Wage Schedule (Full Scale) for the Cumberland, North Carolina wage area (AC-108).

7. Wage Schedule (Full Scale) for the Richland, South Carolina wage area (AC-110).

8. Wage Schedule (Full Scale) for the Wichita, Texas wage area (AC-122).

9. Wage Schedule (Full Scale) for the Comanche, Oklahoma wage area (AC-123).

10. Wage Schedule (Full Scale) for the Craven, North Carolina wage area (AC-164).

11. Wage Schedule (Wage Change) for the Lauderdale, Mississippi wage area (AC-001).

12. Wage Schedule (Wage Change) for the Lowndes, Mississippi wage area (AC-004).

13. Wage Schedule (Wage Change) for the Rapides, Louisiana wage area (AC-024).

14. Wage Schedule (Wage Change) for the Caddo-Bossier, Louisiana wage area (AC-025).

15. Wage Schedule (Wage Change) for the Chatham, Georgia wage area (AC-037).

16. Wage Schedule (Wage Change) for the Dougherty, Georgia wage area (AC-046).

17. Wage Schedule (Wage Change) for the Lowndes, Georgia wage area (AC-047).

Reviewing survey results and/or survey specifications for the following Appropriated Fund areas:

18. Survey Specifications for the Cedar Rapids-Iowa City, Iowa wage area (AC-052).

19. Survey Specifications for the Madison, Wisconsin wage area (AC-147).

20. Any items needing further clarification from this agenda may be discussed during future scheduled meetings.

Closing Remarks by Chair, Mr. Eric Clayton.

May 14, 2024

Opening Remarks by Chair, Mr. Eric Clayton, and DFO, Mr. Karl Fendt.

Reviewing survey results and/or survey specifications for the following Nonappropriated Fund areas:

1. Any items needing further clarification or action from the previous meeting.

2. Wage Schedule (Full Scale) for the Calhoun, Alabama wage area (AC-104).

3. Wage Schedule (Full Scale) for the Madison, Alabama wage area (AC-105).

4. Wage Schedule (Full Scale) for the Lake, Illinois wage area (AC-145).

5. Wage Schedule (Full Scale) for the Douglas-Sarpy, Nevada wage area (AC-149).

6. Wage Schedule (Full Scale) for the Leavenworth, Kansas/Jackson-Johnson, Missouri wage area (AC-151).

7. Wage Schedule (Full Scale) for the St. Clair, Illinois wage area (AC-157).

8. Wage Schedule (Wage Change) for the Richmond, Georgia wage area (AC-035).

9. Wage Schedule (Wage Change) for the Houston, Georgia wage area (AC-036).

10. Wage Schedule (Wage Change) for the Pulaski, Arkansas wage area (AC-045).

11. Wage Schedule (Wage Change) for the Montgomery, Alabama wage area (AC-048).

12. Wage Schedule (Wage Change) for the Sedgwick, Kansas wage area (AC-078).

13. Wage Schedule (Wage Change) for the Montgomery-Greene, Ohio wage area (AC-166).

14. Survey Specifications for the Los Angeles, California wage area (AC-130).

15. Survey Specifications for the Orange, California wage area (AC-131).

16. Survey Specifications for the Ventura, California wage area (AC-132).

17. Survey Specifications for the Riverside, California wage area (AC-133).

18. Survey Specifications for the San Bernardino, California wage area (AC-134).

19. Survey Specifications for the Santa Barbara, California wage area (AC-135).

20. Survey Specifications for the Guam wage area (AC-150).

Reviewing survey results and/or survey specifications for the following Appropriated Fund areas:

21. Wage Schedule (Full Scale) for the Reno, Nevada wage area (AC-086).

22. Wage Schedule (Full Scale) for the Syracuse-Utica-Rome, New York wage area (AC-097).

23. Wage Schedule (Full Scale) for the North Dakota wage area (AC-103).

24. Wage Schedule (Full Scale) for the Houston-Galveston-Texas City, Texas wage area (AC-133).

25. Wage Schedule (Wage Change) for the Northeastern Arizona wage area (AC-008).

26. Wage Schedule (Wage Change) for the Phoenix, Arizona wage area (AC-009).

27. Wage Schedule (Wage Change) for the Tucson, Arizona wage area (AC-010).

28. Wage Schedule (Wage Change) for the Minneapolis-St. Paul, Minnesota wage area (AC-075).

29. Wage Schedule (Wage Change) for the Albany-Schenectady-Troy, New York wage area (AC-091).

30. Wage Schedule (Wage Change) for the Northern New York wage area (AC-095).

31. Wage Schedule (Wage Change) for the West Virginia wage area (AC-146).

32. Survey Specifications for the Little Rock, Arkansas wage area (AC-011).

33. Survey Specifications for the Portland, Oregon wage area (AC-112).

34. Survey Specifications for the Wichita Falls, Texas-Southwestern Oregon wage area (AC-138).

35. Special Pay—Pacific Northwest Power Rate.

36. Any items needing further clarification from this agenda may be discussed during future scheduled meetings.

Closing Remarks by Chair, Mr. Eric Clayton.

May 28, 2024

Opening Remarks by Chair, Mr. Eric Clayton, and DFO, Mr. Karl Fendt.

Reviewing survey results and/or survey specifications for the following Appropriated Fund areas:

1. Any items needing further clarification or action from the previous meeting.

2. Survey Specifications for the Boston, Massachusetts wage area (AC-068).

3. Any items needing further clarification from this agenda may be discussed during future scheduled meetings.

Closing Remarks by Chair, Mr. Eric Clayton.

June 11, 2024

Opening Remarks by Chair, Mr. Eric Clayton, and DFO, Mr. Karl Fendt.

Reviewing survey results and/or survey specifications for the following Nonappropriated Fund areas:

1. Any items needing further clarification or action from the previous meeting.

2. Survey Specifications for the Maricopa, Arizona wage area (AC-012).

3. Survey Specifications for the Pima, Arizona wage area (AC-013).

4. Survey Specifications for the Yuma, Arizona wage area (AC-055).

5. Survey Specifications for the Kings-Queens, New York wage area (AC-091).

Reviewing survey results and/or survey specifications for the following Appropriated Fund areas:

6. Wage Schedule (Full Scale) for the Anniston-Gadsden, Alabama wage area (AC-001).

7. Wage Schedule (Full Scale) for the Huntsville, Alabama wage area (AC-004).

8. Wage Schedule (Full Scale) for the Tampa-St. Petersburg, Florida wage area (AC-035).

9. Wage Schedule (Full Scale) for the Lake Charles-Alexandria, Louisiana wage area (AC-060).

10. Wage Schedule (Full Scale) for the El Paso, Texas wage area (AC-132).

11. Wage Schedule (Wage Change) for the New Haven-Hartford, Connecticut wage area (AC-024).

12. Wage Schedule (Wage Change) for the Albuquerque, New Mexico wage area (AC-089).

13. Wage Schedule (Wage Change) for the Cleveland, Ohio wage area (AC-105).

14. Wage Schedule (Wage Change) for the Texarkana, Texas wage area (AC-136).

15. Survey Specifications for the Los Angeles, California wage area (AC-013).

16. Survey Specifications for the Santa Barbara, California wage area (AC-019).

17. Survey Specifications for the New London, Connecticut wage area (AC-025).

18. Survey Specifications for the Panama City, Florida wage area (AC-033).

19. Survey Specifications for the Las Vegas, Nevada wage area (AC-085).

20. Survey Specifications for the Portsmouth, New Hampshire wage area (AC-087).

21. Any items needing further clarification from this agenda may be discussed during future scheduled meetings.

Closing Remarks by Chair, Mr. Eric Clayton.

Meeting Accessibility: Pursuant to 5 U.S.C. 552b(c)(4), the DoD has determined that the meetings shall be closed to the public. The USD(P&R), in consultation with the DoD Office of General Counsel, has determined in writing that each of these meetings is likely to disclose trade secrets and commercial or financial information obtained from a person and privileged or confidential.

Written Statements: Pursuant to 5 U.S.C. 1009(a)(3) and 41 CFR 102-3.140, interested persons may submit written statements to the DFO for the DoDWC at any time. Written statements should be submitted to the DFO at the email or mailing address listed above in FOR FURTHER INFORMATION CONTACT. If statements pertain to a specific topic being discussed at a planned meeting, then these statements must be submitted no later than five (5) business days prior to the meeting in question. Written statements received after this date may not be provided to or considered by the DoDWC until its next meeting. The DFO will review all timely submitted written statements and provide copies to all the committee members before the meetings that are the subject of this notice.

Dated: April 15, 2024.
Aaron T. Siegel,
Alternate OSD Federal Register Liaison Officer, Department of Defense.

[FR Doc. 2024-08356 Filed 4-18-24; 8:45 am]

BILLING CODE 6001-FR-P